DEPARTMENT OF THE INTERIOR

National Park Service

National Register of Historic Places; Notification of Pending Nominations

Nominations for the following properties being considered for listing in the National Register were received by the National Park Service before August 7, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by September 10, 2004.

Patrick W. Andrus,
Acting Keeper of the National Register of Historic Places.

ALASKA

Matanuska-Susitna Borough-Census Area

Tryck, Blanche and Oscar, House, North Knik St., bet. the Parks Hwy/Alaska RR and E. Herning Ave., Wasilla, 04000968

FLORIDA

Bay County

Latimer Cabin, NE Powell Lake, Panama City Beach, 04000972

Broward County

Sample—McDougald House, 450 NE 10th St., Pompano Beach, 04000970

Lake County

Harper House, 17408 E. Porter Ave., Montverde, 04000969

Martin County

Stuart Welcome Arch, Bet. 2369 and 2390 NE Dixie Hwy, Jensen Beach, 04000971

ILLINOIS

Cook County

Montgomery, John Rogerson, House, 15 Old Green Bay Rd., Glencoe, 04000974

Wrightwood Bungalow Historic District, (Chicago Bungalows MPS) 4600 and 4700 Blks of W. Wrightwood Ave., Chicago, 04000975

Sangamon County

Taylor Apartments, (Multiple Family Dwellings in Springfield, Illinois MPS) 117 S. Grand Ave. W, Springfield, 04000976

St. Clair County

Koerner, Gustave, House, 200 Abend St., Belleville, 04000983

IOWA

Clayton County

Front Street Historic District (Boundary Increase), (Guttenberg, Iowa MPS) Selected properties on South First, Prince, Goethe, Herder and Schiller Sts., Guttenberg, 04001009

KANSAS

Sedgwick County

Bowers House, 1004 North Market, Wichita, 04000973

LOUISIANA

Vernon Parish

Lyons, Benson H., House, 203 S. 1st St., Leesville, 04000977

MONTANA

Fergus County

Lewistown Satellite Airfield Historic District (Boundary Increase),

MT 87, Lewistown, 04000979

Rosebud County

Bonnell, Oliver and Lucy, Gothic Arch Roofed Barn, 247 Shields River Road E, Clyde Park, 04000978

NEVADA

Washoe County

Burke—Berryman House, 418 Cheney St., Reno, 04000984

NEW JERSEY

Camden County

USS New Jersey (BB-62), 62 Battleship Place, Camden City, 04000980

NEW MEXICO

Dona Ana County

Branigan, Thomas, Memorial Library, 106 W. Hadley St., Las Cruces, 04000981

NEW YORK

Albany County

Myers, Stephen and Harriet, House, 194 Livingston Ave., Albany, 04000999

Bronx County

Jackson Avenue Subway Station (IRT), (New York City Subway System MPS) Jct. of E. 152nd St. and Jackson and Westchester Aves., Bronx, 04001025

Prospect Avenue Subway Station (IRT), (New York City Subway System MPS) Jct. of Westchester and Longwood Aves. and Prospect St., Bronx, 04001026

Simpson Street Subway Station and Substation #18 (IRT), (New York City Subway System MPS) Jct. of Westchester Ave., bet. Simpson St. and Southern Blvd., Bronx, 04001027

Cattaraugus County

East Otto Union School, 9014 East Otto—Springville Rd., East Otto, 04000993

Delaware County

Thomson Family Farm, Thomson Hollow Rd., New Kingston, 04001000

Kings County

Atlantic Avenue Subway Station (IRT and BMT), (New York City Subway System MPS) Jct. of Flatbush Ave. at Atlantic and 4th Aves., Brooklyn, 04001023

Beverley Road Subway Station (BRT pre-Dual System), (New York City Subway System MPS) Beverley Rd. at Marlborough Rd., Brooklyn, 04001024

Borough Hall Subway Station (IRT), (New York City Subway System MPS) Jct. of Joralemon, Court and Adams Sts., Brooklyn, 04001022

New York County

110th Street—Cathedral Parkway Subway Station (IRT), (New York City Subway System MPS) Jct. of Broadway, W. 110th St. and Cathedral Pkwy., New York, 04001019

116th Street—Columbia University Subway Station (IRT), (New York City Subway System MPS) Jct. of Broadway and West 116sth St., New York, 04001020

33rd Street Subway Station (IRT), (New York City Subway System MPS) 33rd St. and Park Ave., New York, 04001014

59th Street—Columbus Circle Subway Station (IRT), (New York City Subway System MPS) Jct. of Broadway and Central Park South, New York, 04001015

72nd Street Subway Station (IRT), (New York City Subway System MPS) Jct. of Broadway and W. 72nd St., New York, 04001017

79th Street Subway Station (IRT), (New York City Subway System MPS) Jxt. of W. 79th St. and Broadway, New York, 04001018

Astor Place Subway Station (IRT), (New York City Subway System MPS) Jct. of Bowery, Astor Place and Lafayette St., New York, 04001013

Bleecker Street Subway Station (IRT), (New York City Subway System MPS) Jct. of Bleecker and Lafayette Sts., New York, 04001012

City Hall Subway Station (IRT), (New York City Subway System MPS) Park Row and City Hall Park, New York, 04001010

Dyckman Street Subway Station (IRT), (New York City Subway System MPS) Bet. Hillside and St. Nicholas Aves., Jct. of Dyckman St. and Nagle Ave., New York, 04001021

Times Square—42nd Street Subway Station, (New York City Subway System MPS) Jct. of West 42nd St, and Broadway/Seventh Ave., New York, 04001016

Wall Street Subway Station (IRT), (New York City Subway System MPS) Under Broadway at Wall, Pine, Rector Sts. and Exchange Place, New York, 04001011

Niagara County

Cold Springs Cemetery, 4849 Cold Springs Rd., Lockport, 04000989

First Baptist Church, 6073 East Ave., Newfane, 04000987

Ontario County

Burnett Farmstead, 943 Burnett Rd., Phelps, 04000988

Orange County

Church Park Historic District (Boundary Increase), South St., Green St., South Church St., Kelsey Ln., Goshen, 04000991

Fury Brook Farm, Kings Highway, Sugar Loaf, 04000995

Schenectady County

Jones, George Westinghouse, House, 1944 Union St., Niskayuna, 04000998

St. Lawrence County

Baldwin, Benjamin Gordon, House, 26 Baldwin Ave., Norwood, 04000994

Buck's Bridge United Methodist Church, 2927 Cty Rte 14, Buck's Bridge, 04000985

Suffolk County

Oheka, 135 W. Gate Dr., Cold Springs Hills, 04000996

Tioga County

Purple, Gilbert E., House, (Newark Valley MPS) 34 Maple Ave., Newark Valley, 04000992

Washington County

Straight, Elisha, House, 55 Main St., Hartford, 04000986

Westchester County

Osborn—Bouton—Mead House, 399 Poundridge Rd., South Salem, 04000990

VERMONT

Windham County

Brattleboro Downtown Historic District (Boundary Increase), Plaza Park, Main St. Jct. with Canal St., VT 119 and VT142 and 1 Holstein Place, Brattleboro, 04000982

WASHINGTON

Lewis County

Scout Lodge, 278 SE Adams Ave., Chehalis, 04001007

Spokane County

Brooks, Kenneth and Edna, House, 723 W. Sumner Ave., Spokane, 04001006

Thurston County

Olympia Downtown Historic District, Roughly bounded by State Ave., 8th Ave., Columbia St., and Franklin St., Olympia, 04001008

WISCONSIN

Ashland County

T. H. Camp (shipwreck), (Great Lakes Shipwreck Sites of Wisconsin MPS) Address Restricted, La Pointe, 04001001

Dane County

Fuhremann Canning Company Factory, 151 Market St., Sun Prairie, 04001003

Rutland United Brethren in Christ Meeting House and Cemetery, 687 US 14, Rutland, 04001002

Green Lake County

Green Lake Village Hall, 534 Mill St., Green Lake, 04000997

Vilas County

Government Boarding School at Lac du Flambeau, Address restrict, Lac du Flambeau, 04001005

Waukesha County

Pearl and Grand Avenue Historic District, Pearl Ave. bounded by Grand Ave. and Franklin St. and portions of Pleasant and Division Sts., Mukwonago, 04001004

[FR Doc. 04-19494 Filed 8-25-04; 8:45 am]

BILLING CODE 4312-51-P